DEPARTMENT OF TRANSPORTATION

Federal Highway Administration

Rescinding the Notice of Intent To Prepare Environmental Impact Statement (EIS): Kauai County, Hawaii

AGENCY: Federal Highway Administration (FHWA), DOT.

ACTION: Notice to rescind notice of intent (NOI) to prepare an environmental impact statement (EIS).

SUMMARY: The FHWA is issuing this notice to advise the public that it is rescinding its NOI and will not be preparing an EIS for the proposed Kuhio Highway Improvements, Hanamaulu to Kapaa, Kauai County, Hawaii. An NOI to prepare an EIS was published in the Federal Register on June 3, 2002.

FOR FURTHER INFORMATION CONTACT: Ralph Rizzo, Division Administrator, Federal Highway Administration, 300 Ala Moana Boulevard, Box 50206, Honolulu, Hawaii 96850, Telephone: (808) 541-2700.

SUPPLEMENTARY INFORMATION: The FHWA, in cooperation with the State of Hawaii Department of Transportation (HDOT), initiated an EIS with an NOI published in the Federal Register on June 3, 2002, at 67 FR 38310, to prepare an EIS for the proposed improvements to Kuhio Highway (FAP 56) on the island of Kauai. This notice superseded an earlier notice for the same project published in the October 9, 1992 edition of the Federal Register (57 FR 46620).

The Project would impact a sizable number of historical and archaeological resources that were previously identified, including the Wailua Complex of Heiau National Historic Landmark. Additionally, the recent identified Wailua Traditional Cultural Property (TCP), which encompasses the entire Wailua Ahupuaa, would be impacted. This TCP is a highly important spiritual place for many Hawaiians. Given that the Project would include a new highway alignment and a new bridge over Wailua River that would go through the Wailua TCP, a Section 106 adverse effect and Section 4(f) use would likely occur. With no avoidance alternative being possible, mitigation of this adverse effect may not be feasible and prudent given the historical, cultural and religious significance of the area.

Because of the anticipated adverse impacts to archaeological and historical resources, impacts to wetlands and endangered species, and the estimated right-of-way and construction costs, HDOT has determined that the project, as currently configured and envisioned, is not warranted at this time. Therefore, the preparation of the EIS is being terminated.

(Catalog of Federal Domestic Assistance Program Number 20.205, Highway Planning and Construction. The regulations implementing Executive Order 12372 regarding intergovernmental consultation on Federal programs and activities apply to this program.)

Authority: 23 U.S.C. 139, 23 CFR 771, and 40 CFR 1500-1508.

Issued on: May 29, 2020.
Ralph Rizzo,
Division Administrator, Honolulu, HI.

[FR Doc. 2020-12114 Filed 6-3-20; 8:45 am]

BILLING CODE 4910-RY-P